DEPARTMENT OF COMMERCE

United States Patent and Trademark Office

Notice of Meeting of the National Intellectual Property Law Enforcement Coordination Council

AGENCY: United States Patent and Trademark Office, Commerce Department.

ACTION: Notice of meeting.

SUMMARY: The National Intellectual Property Law Enforcement Coordination Council (Council) will be holding a public meeting. Interested members of the public are invited to attend the meeting.

DATES: The public meeting will be held on Monday, November 27, 2000, beginning at noon and ending no later than 2 P.M. Those wishing to attend the meeting must pre-register by close of business on Friday, November 16, 2000.

ADDRESSES: The November 27, 2000, meeting will be held in the Main Auditorium at the U.S. Department of Commerce, Herbert C. Hoover Building, 14th Street and Constitution Avenue, NW., Washington, DC. Those interested in attending should pre-register by submitting their name and telephone contact number either by electronic mail through the Internet to elizabeth.shaw2@uspto.gov or by facsimile sent to the attention of Elizabeth Shaw at 703-305-7575.

Transcripts of the meeting will be available after January 5, 2001, and will be maintained for public inspection in the Executive Library of the USPTO, Crystal Park Two, Room 900A, 2121 Crystal Drive, Arlington, Virginia.

FOR FURTHER INFORMATION CONTACT: Elizabeth Shaw by telephone at 703-305-1033; by facsimile at 703-305-7575; by electronic mail at elizabeth.shaw2@uspto.gov; or by mail addressed to Under Secretary of Commerce for Intellectual Property and Director of the United States Patent and Trademark Office, Box 4, United States Patent and Trademark Office, Washington, DC 20231.

SUPPLEMENTARY INFORMATION: On Monday, June 5, 2000, the Council published a Notice of Request for Public Comments (65 FR 35611 (2000)) regarding issues related to the Council's policies and agenda. The November 27, 2000, meeting will introduce the Council to the public and give those who submitted comments (respondent industry speakers) regarding the issues identified in the notice an opportunity to elaborate on their responses.

I. Issues To Be Discussed

Respondent industry speakers have been invited to address the Council regarding law enforcement and policy issues related to the Council's mission and how the Council and the intellectual property industries can work together to improve intellectual property law enforcement in the U.S. and abroad.

The Government speakers will discuss the Council's activities and the individual agencies' current and future intellectual property law enforcement-related activities.

II. Meeting Format

The Council will provide a brief overview of its activities and introduce its Members and other affiliated agencies. Each agency will then have an opportunity to make a brief presentation on its law enforcement-related efforts. Respondent industry speakers will be given up to fifteen (15) minutes to present their remarks. The exact duration of each presentation will depend upon the final number of speakers. A question and answer session will follow the final industry presentation. The public is invited to be present for the entire program; however, only Council Members and respondent industry speakers may participate orally in the program. Industry speakers may provide a written copy of their testimony for inclusion in the record of the proceedings. These remarks should be provided in electronic format no later than November 27, 2000. A schedule providing the approximate starting time for each Government and industry speaker will be distributed the morning of the day of the hearing. Speakers are advised that the schedule for testimony will be subject to change during the course of the hearing. Information that is provided pursuant to this notice will be made part of a public record and may be available via the Internet. In view of this, parties should not submit information that they do not wish to be publicly disclosed or made electronically accessible. Parties who would like to rely on confidential information to illustrate a point are requested to summarize or otherwise submit the information in a way that will permit its public disclosure.

Dated: October 5, 2000.
Q. Todd Dickinson,
Under Secretary of Commerce for Intellectual Property and Director of the United States Patent and Trademark Office.

[FR Doc. 00-26182 Filed 10-11-00; 8:45 am]

BILLING CODE 3510-16-P